FEDERAL COMMUNICATIONS COMMISSION

47 CFR Part 73

[DA 06-113, MM Docket No. 04-201, RM-10972, RM-11103]

Radio Broadcasting Services; Birmingham, Orrville, Selma, and Shorter, AL

AGENCY: Federal Communications Commission.

ACTION: Final rule; petition for reconsideration.

SUMMARY: The staff grants a settlement request filed by Scott Communications, Inc., Alexander Broadcasting Co., and SSR Communications, deletes the allotment of Channel 300A at Shorter, AL, and upgrades, reallots, and changes the community of license for Station WJAM-FM from Channel 300A at Orrville, AL, to Channel 300C3 at Shorter, AL. To prevent the removal of the sole local service at Orrville, the document reallots and changes the community of license for Station WALX(FM) from Channel 265C2 at Selma, AL, to Channel 265C2 at Orrville. The staff also dismisses as moot a petition for reconsideration filed jointly by Scott Communications and Alexander Broadcasting directed at the Report and Order in this proceeding. See 70 FR 28461 (May 18, 2005). With this action, the proceeding is terminated. See also Supplemental Information.

DATES: Effective March 20, 2006.

FOR FURTHER INFORMATION CONTACT: Andrew J. Rhodes, Media Bureau, (202) 418-2180.

SUPPLEMENTARY INFORMATION: This is a synopsis of the Commission's Memorandum Opinion and Order, MM Docket No. 04-201, adopted January 18, 2006, and released January 20, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. The Commission will send a copy of the Memorandum Opinion and Order in this proceeding in a report to be sent to Congress and the Government Accountability Office pursuant to the Congressional Review Act, see 5 U.S.C. 801(a)(1)(A).

To accommodate the reallotment of Channel 300C3 to Shorter, the document also downgrades and modifies the license of Station WRAX(FM) at Birmingham, AL, from Channel 299C to Channel 299C0. To ensure that local aural service is retained at Orrville, Station WJAM-FM may not commence operating at Shorter until Station WALX(FM) commences operations at Orrville. The reference coordinates for Channel 300C3 at Shorter are 32-21-49 NL and 85-59-48 WL. The reference coordinates for Channel 265C2 at Orrville are 32-20-42 NL and 86-55-02 WL. The reference coordinates for Channel 299C0 at Birmingham are 33-43-52 NL and 86-37-57 WL. This document also waives the provisions of Section 1.420(j) of the Commission's rules, consistent with the Public Notice entitled Window Announced for Universal Settlements of Pending Rulemaking Proceedings to Amend FM Table of Allotments, 20 FCC Rcd 10756 (MB 2005).

List of Subjects in 47 CFR Part 73

Radio, Radio broadcasting.

Part 73 of Title 47 of the Code of Federal Regulations is amended as follows:

PART 73—RADIO BROADCAST SERVICES

1. The authority for part 73 continues to read as follows:

Authority: 47 U.S.C. 154, 303, 334, and 336.

§ 73.202 [Amended]

2. Section 73.202(b), the Table of FM Allotments under Alabama, is amended by removing Channel 299C and adding Channel 299C0 at Birmingham, removing Channel 300A and adding Channel 265C2 at Orrville, removing Channel 265C2 at Selma, and removing Channel 300A and adding Channel 300C3 at Shorter.

Federal Communications Commission.
John A. Karousos,
Assistant Chief, Audio Division, Media Bureau.

[FR Doc. 06-1061 Filed 2-7-06; 8:45 am]

BILLING CODE 6712-01-P